DEPARTMENT OF THE INTERIOR

National Park Service

Notice of Intent to Repatriate a Cultural Item: Virginia Museum of Fine Arts, Richmond, VA

AGENCY: National Park Service, Interior.

ACTION: Notice.

Notice is here given in accordance with the Native American Graves Protection and Repatriation Act (NAGPRA), 25 U.S.C. 3005, of the intent to repatriate a cultural item in the possession of the Virginia Museum of Fine Arts, Richmond, VA, that meets the definition of “object of cultural patrimony” under 25 U.S.C. 3001.

This notice is published as part of the National Park Service's administrative responsibilities under NAGPRA, 25 U.S.C. 3003(d)(3). The determinations in this notice are the sole responsibility of the museum, institution, or Federal agency that has control of the cultural item. The National Park Service is not responsible for the determinations in this notice.

The cultural item is a ceremonial headdress made of wood, eagle or eider down, sea lion whiskers, ermine hide, abalone shell, feathers, and fibers (VMFA accession # 55.31.7). The headdress is approximately 17.25 inches in height, 10 inches in width, and 9.5 inches in diameter (43.7 cm x 25.2 cm x 24.2 cm). The mask portion of the headdress is composed of a polychrome carved wooden bird holding a limp object in its beak, and the right wing of the mask has been broken off and repaired. A stylized face appears beneath the beak, which is flanked by applied vertical wings. The nose of the face is a bird's head, turned upward. The eyes and teeth are made of abalone shell. The top of the headdress is decorated with alternating sea lion whiskers and red-shafted flicker feathers. The headdress itself is lined with ermine hide, and ermine hide also hangs from the back of the headdress.

In 1955, the headdress was purchased by the Virginia Museum of Fine Arts from the Portland Art Museum, OR (Portland Art Museum accession # 48.3.439). Records from the Portland Art Museum read as follows: “Purchase, Indian Collection Subscription Fund. To be known as the Axel Rassmussen Collection. Vendor, Earl Stendahl.”

Representatives of the Central Council of the Tlingit & Haida Indian Tribes, specifically the Lúkaax.ádi clan, a Tlingit clan, have identified that this headdress represents the Kingfisher Fort. The Kingfisher Fort is a site of cultural and historic importance to the Lúkaax.ádi clan, and this Kingfisher Fort Headdress (Tlax'aneis' Noow Shaakee.át) is needed for continuing their cultural ceremonies. Representatives of the Central Council of the Tlingit & Haida Indian Tribes have also provided evidence that this headdress is an object of cultural patrimony. It is communally owned and, at the time of removal had - and continues to have - ongoing, historical, traditional, and cultural importance central to the Tlingit society and culture. Furthermore, no tribal member consented to alienate it, and no evidence exists to demonstrate that its transfer outside the tribe was voluntary.

Officials of the Virginia Museum of Fine Arts have determined that, pursuant to 25 U.S.C. 3001(3)(D), the cultural item described above has ongoing historical, traditional, or cultural importance central to the Native American group or culture itself, rather than property owned by an individual. Officials of the Virginia Museum of Fine Arts also have determined that, pursuant to 25 U.S.C. 3001(2), there is a relationship of shared group identity that can be reasonably traced between the object of cultural patrimony and the Central Council of the Tlingit & Haida Indian Tribes.

Representatives of any other Indian tribe that believes itself to be culturally affiliated with the object of cultural patrimony should contact Kelly Burrow, Assistant Registrar, Virginia Museum of Fine Arts, 200 N. Blvd., Richmond, VA 23220, telephone (804) 204-2669, before June 3, 2010. Repatriation of the object of cultural patrimony to the Central Council of the Tlingit & Haida Indian Tribes may proceed after that date if no additional claimants come forward.

The Virginia Museum of Fine Arts is responsible for notifying the Central Council of the Tlingit & Haida Indian Tribes that this notice has been published.

Dated: March 25, 2010.
Sherry Hutt,
Manager, National NAGPRA Program.

[FR Doc. 2010-10365 Filed 5-3-10; 8:45 am]

BILLING CODE 4312-50-S